DEPARTMENT OF DEFENSE

Office of the Secretary

Defense Science Board; Notice of Federal Advisory Committee Meeting

AGENCY: Under Secretary of Defense for Research and Engineering, Department of Defense (DoD).

ACTION: Notice of Federal Advisory Committee meeting.

SUMMARY: The DoD is publishing this notice to announce that the following Federal Advisory Committee meeting of the Defense Science Board (DSB) will take place.

DATES: Closed to the public Wednesday, June 1, 2022 from 8:30 a.m. to 4:30 p.m. Closed to the public Thursday, June 2, 2022 from 8:00 a.m. to 3:30 p.m.

ADDRESSES: The address of the closed meeting is conference room 3E869 at the Pentagon, Washington, DC 20301.

FOR FURTHER INFORMATION CONTACT: Mr. Kevin Doxey, (703) 571-0081 (voice), (703) 697-1860 (facsimile), kevin.a.doxey.civ@mail.mil (email). Mailing address is Defense Science Board, 3140 Defense Pentagon, Room 3B888A, Washington, DC 20301-3140. Website: http://www.acq.osd.mil/dsb/. The most up-to-date changes to the meeting agenda can be found on the website.

SUPPLEMENTARY INFORMATION: This meeting is being held under the provisions of the Federal Advisory Committee Act (FACA) (Title 5 United States Code (U.S.C.), Appendix), the Government in the Sunshine Act (5 U.S.C. 552b), and 41 CFR 102-3.140 and 102-3.150.

Purpose of the Meeting: The mission of the DSB is to provide independent advice and recommendations on matters relating to the DoD's scientific and technical enterprise. The objective of the meeting is to obtain, review, and evaluate classified information related to the DSB's mission. DSB membership will meet with DoD Leadership to discuss classified current and future national security challenges and priorities within the DoD.

Agenda: The DSB Quarterly Meeting will begin on June 1, 2022 at 8:30 a.m. with opening remarks from Mr. Kevin Doxey, the Designated Federal Officer, and Dr. Eric Evans, DSB Chairman, followed by member introductions. The first briefing will be from the Honorable Christine Wormuth, Secretary of the Army, who will provide a classified briefing on her view of the defense issues and challenges the Army faces. DSB members will then receive a classified briefing on pending DSB studies. Next, the DSB Sponsor, the Honorable Heidi Shyu, Under Secretary of Defense, Research & Engineering, will provide classified remarks on her view on defense challenges, issues, and priorities. Finally, Vice Admiral Stuart B. Munsch, Director for Joint Force Development, J7, will provide classified remarks on his view of current defense challenges and issues. The meeting will adjourn at 4:30 p.m. On June 2, 2022, the first presentation will be from Dr. John Manferdelli and Dr. Robert Wisnieff, Co-Chairs of the DSB Task Force on Ensuring Microelectronics Superiority (Microelectronics), who will provide a brief on the Task Force on Microelectronics' findings and recommendations and engage in classified discussion with the DSB. The DSB will then vote on the Microelectronics Task Force's findings and recommendations. The next presentation will be from Dr. Mark Maybury and Mr. Mark Russell, Co-Chairs of the DSB Task Force on Homeland Air Defense (HAD), who will provide a brief on the Task Force on HAD's findings and recommendations and engage in classified discussion with the DSB. The DSB will then vote on the HAD Task Force's findings and recommendations. Next, Dr. William Schneider and Dr. Theodore Gold, Co-Chairs of the 2020 Summer Study on New Dimensions of Conflict (2020 Summer Study), will provide a brief on the 2020 Summer Study's findings and recommendations and engage in classified discussion with the DSB. The DSB will then vote on the 2020 Summer Study's findings and recommendations. Next, General Paul M. Nakasone, United States Army, Commander, United States Cyber Command, Director, National Security Agency/Chief, Central Security Service will provide a classified briefing on his view of current defense challenges and issues. Finally, Admiral Christopher W. Grady, Vice Chairman, Joint Chiefs of Staff, will provide a classified briefing on his view of current defense challenges and issues. The meeting will adjourn at 3:30 p.m.

Meeting Accessibility: In accordance with Section 10(d) of the FACA and 41 CFR 102-3.155, the DoD has determined that the DSB meeting will be closed to the public. Specifically, the Under Secretary of Defense (Research and Engineering), in consultation with the DoD Office of General Counsel, has determined in writing that the meeting will be closed to the public because it will consider matters covered by 5 U.S.C. 552b(c)(1). The determination is based on the consideration that it is expected that discussions throughout will involve classified matters of national security concern. Such classified material is so intertwined with the unclassified material that it cannot reasonably be segregated into separate discussions without defeating the effectiveness and meaning of the overall meetings. To permit the meeting to be open to the public would preclude discussion of such matters and would greatly diminish the ultimate utility of the DSB's findings and recommendations to the Secretary of Defense and to the Under Secretary of Defense (Research and Engineering).

Written Statements: In accordance with Section 10(a)(3) of the FACA and 41 CFR 102-3.105(j) and 102-3.140, interested persons may submit a written statement for consideration by the DSB at any time regarding its mission or in response to the stated agenda of a planned meeting. Individuals submitting a written statement must submit their statement to the DSB DFO provided in the FOR FURTHER INFORMATION CONTACT section at any point; however, if a written statement is not received at least three calendar days prior to the meeting, which is the subject of this notice, then it may not be provided to or considered by the DSB until a later date.

Meeting Announcement: Due to circumstances beyond the control of the Department of Defense and the Designated Federal Officer, the Defense Science Board was unable to provide public notification required by 41 CFR 102-3.150(a), concerning the meeting on June 1-2, 2022 of the Defense Science Board. Accordingly, the Advisory Committee Management Officer for the Department of Defense, pursuant to 41 CFR 102-3.150(b), waives the 15-calendar day notification requirement.

Dated: May 19, 2022.
Aaron T. Siegel,
Alternate OSD Federal Register Liaison Officer, Department of Defense.

[FR Doc. 2022-11194 Filed 5-24-22; 8:45 am]

BILLING CODE 5001-06-P